ENVIRONMENTAL PROTECTION AGENCY

[FRL-6887-1]

Notice of Availability of Guidance for Controlling Nonpoint Source Pollution From Agriculture and Request for Comments

AGENCY: Environmental Protection Agency (EPA).

ACTION: Notice.

SUMMARY: EPA has developed and is requesting comments on draft technical guidance for managing agricultural sources of nonpoint pollution. This guidance is intended to provide technical assistance to State program managers and others on the best available, economically achievable means of reducing nonpoint source pollution of surface and ground water from agriculture. The guidance provides background information about agricultural nonpoint source pollution, where it comes from and how it enters the Nation's waters, discusses the broad concepts of assessing and addressing water quality problems on a watershed level, and presents up-to-date technical information about how to reduce agricultural nonpoint source pollution.

Reviewers should note that the draft technical guidance is entirely consistent with the Guidance Specifying Management Measures for Sources of Nonpoint Pollution in Coastal Waters, which EPA published in January 1993 under section 6217(g) of the Coastal Zone Act Reauthorization Amendments of 1990 (CZARA). The draft document does not supplant or replace the requirements of the 1993 document. It enhances the technical information contained in the 1993 coastal guidance to include inland as well as coastal context and to provide updated technical information based on current understanding and implementation of best management practices. It does not set new or additional standards for either CZARA section 6217 or Clean Water Act section 319 programs.

DATES: Written comments must be postmarked no later than January 16, 2001.

ADDRESSES: Comments may be addressed to Sharon Buck, Assessment and Watershed Protection Division (4503-F), U.S. Environmental Protection Agency, 1200 Pennsylvania Avenue, NW., Washington, DC 20460; or electronically mailed to buck.sharon@epa.gov.

FOR FURTHER INFORMATION CONTACT: Persons requesting additional information or a complete draft of the document should contact Sharon Buck at (202) 260-0306; buck.sharon@epa.gov; or U.S. Environmental Protection Agency (4503-F), 1200 Pennsylvania Avenue, NW., Washington, DC 20460. The complete text of the draft guidance is also available on EPA's Internet site on the Nonpoint Source Control Branch homepage <http://www.epa.gov/owow/nps/new.html>.

SUPPLEMENTARY INFORMATION:

I. Background

In recent years, State, territory, and tribal water quality assessments have identified nonpoint source (NPS) pollution as the most significant cause of degradation in surveyed waters nationwide. In 1987, Congress enacted section 319 of the Clean Water Act to establish a national program to control nonpoint sources of water pollution. Under Section 319, States, territories, and tribes address NPS pollution by assessing the NPS pollution problems within the state, territory, or tribal lands, identifying the sources of pollution, and implementing management programs to control the NPS pollution. Section 319 also authorizes EPA to award grants to States and tribes to assist them in implementing management programs which have been approved by EPA. Program implementation includes non-regulatory and regulatory programs, technical assistance, financial assistance, education, training, technology transfer, and demonstration projects. In fiscal year 2000, Congress appropriated and EPA awarded $200 million dollars for nonpoint source management program grants. EPA has awarded a total of $1 billion under Section 319 to States, Territories, and Indian tribes since 1990.

In 1993, under the authority of section 6217(g) of the Coastal Zone Act Reauthorization Amendments, EPA issued Guidance Specifying Management Measures for Sources of Nonpoint Pollution in Coastal Waters (EPA840-B-92-002). That guidance document details management measures appropriate for the control of five sources of nonpoint pollution in the coastal zone: agriculture, forestry, urban areas, marinas and recreational boating, and hydromodification. The document also includes management measures for wetlands, riparian areas, and vegetated treatment systems as they are important to the abatement of nonpoint source pollution in coastal waters. State and Territory Coastal Nonpoint Pollution Control Programs were required to adopt measures “in conformity” with the coastal management measures guidance.

The 1993 management measures guidance focused on conditions and examples of management measure implementation from the coastal zone. To date, technical guidance on the best available, economically achievable measures for controlling nonpoint sources with a national scope has not been released. The draft national management measures guidance is intended to address this gap. While the practices detailed in the 1993 guidance generally apply to inland areas, EPA has recognized the utility of developing and publishing a technical guidance document that explicitly addresses nonpoint source pollution on a nationwide basis. Moreover, additional data and examples from inland regions are available to enrich the national guidance. In addition, significant changes have occurred in sectors of the agriculture industry since 1993. These changes have helped to prompt the revision and expansion of the agriculture chapter of the 1993 guidance.

II. Scope of the Draft Guidance—Sources of Agricultural Nonpoint Pollution Addressed

The draft technical guidance continues to focus on the major sources of agricultural pollution identified in the 1993 coastal guidance by EPA in consultation with a number of other federal agencies and other leading national experts, including several experts from State land grant universities. Specifically, the guidance identifies management measures for the following:

1. Nutrients;

2. Pesticides;

3. Erosion and sediment;

4. Animal feeding operations;

5. Grazing; and

6. Irrigation water.

III. Approach Used To Develop Guidance

The draft national management measures guidance is based in large part on the 1993 coastal guidance. The 1993 coastal guidance was developed using a workgroup approach to draw upon technical expertise within other Federal agencies as well as State water quality and coastal zone management agencies.

The 1993 text has been expanded to include more background information on standard agricultural practices (e.g., why farmers irrigate, history of pesticides) and to address emerging issues in agriculture (e.g., precision farming). The draft guidance also incorporates examples and data from the inland regions of the United States (e.g., grazing in Colorado) in addition to improving the coverage of unique coastal environments (e.g., Hawaii). The document also updates information on technologies and the costs of management measures where new data has become available since the publication of the coastal guidance.

Only one of the management measures from the 1993 document has been altered in substance: the management measure for animal feeding operations. The coastal guidance contained a management measure whose implementation involved storing facility wastewater and runoff from confined animal facilities for all storms up to and including a 25-year, 24-hour storm and the management of stored runoff and accumulated solids through an appropriate waste utilization system for operations of more than 300 animal units. The management measure in the 1993 coastal guidance does not involve the implementation of manure storage structures or areas, only the control of runoff from such areas. The draft guidance recommends implementation of adequate manure storage in addition to the management of runoff, diversion of clean water, application of manure in accordance with a nutrient management plan, and protection of land receiving wastes through the use of other management measures (i.e., grazing, irrigation water, erosion control), as appropriate. Recent concern over the management of wastes from animal feeding operations, changes in standard practice within the livestock industry, the enactment and promulgation of many new State laws and regulations throughout the country, and the recent publication of the joint U.S. Department of Agriculture/U.S. Environmental Protection Agency Unified National Strategy for Animal Feeding Operations (March 1999) prompted the alterations to the management measure for animal feeding operations described above.

IV. Request for Comments

EPA is soliciting comments on the draft guidance on management measures to control agricultural sources of nonpoint pollution. The Agency is soliciting additional information and supporting data on the measures specified in this guidance and on additional measures that may be as effective or more effective in controlling nonpoint source pollution from agriculture.

Dated: October 5, 2000.
J. Charles Fox,
Assistant Administrator, Office of Water.

[FR Doc. 00-26637 Filed 10-16-00; 8:45 am]

BILLING CODE 6560-50-P